DEPARTMENT OF THE TREASURY

Internal Revenue Service

Proposed Collection; Comment Request for Notice 2009-31 and Revenue Procedure 2009-43

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Notice 2009-31, Election and Notice Procedures for Multiemployer Plans under Sections 204 and 205 of WRERA and Revenue Procedure 2009-43, Revocation of Elections by Multiemployer Plans to Freeze Funded Status under section 204 of WRERA.

DATES: Written comments should be received on or before December 22, 2015 to be assured of consideration.

ADDRESSES: Direct all written comments to Elaine Christophe, Internal Revenue Service, Room 6129, 1111 Constitution Avenue NW., Washington, DC 20224.

FOR FURTHER INFORMATION CONTACT: Requests for additional information or copies of notice should be directed to Allan Hopkins, at Internal Revenue Service, Room 6129, 1111 Constitution Avenue NW., Washington, DC 20224, or through the internet, at Allan.M.Hopkins@irs.gov.

SUPPLEMENTARY INFORMATION:

Title: Election and Notice Procedures for Multiemployer Plans under Sections 204 and 205 of WRERA.

OMB Number: 1545-2141.

Notice Number: Notice 2009-31 and Revenue Procedure 2009-43.

Abstract: Notice 2009-31 provides guidance for sponsors of multiemployer defined benefit plans relating to the elections described in sections 204 and 205 of the Worker, Retiree, and Employer Recovery Act of 2008, Public Law 110-458 (WRERA), and on the notice required to be provided if a plan sponsor makes an election under section 204. Revenue Procedure 2009-43 provides follow-up guidance to Notice 2009-31. This new guidance describes procedures for revoking elections under WRERA.

Current Actions: Renewal of OMB approval. There is no change to the paperwork burden previously approved by OMB.

Type of Review: Extension of a currently approved collection.

Affected Public: State, local, or tribal governments.

Estimated Number of Respondents: 1,600.

Estimated Average Time Per Respondent: 1 hour.

Estimated Total Annual Burden Hours: 1,600.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: October 13, 2015.
Elaine Christophe,
IRS Reports Clearance Officer.

[FR Doc. 2015-26933 Filed 10-22-15; 8:45 am]

BILLING CODE 4830-01-P